DEPARTMENT OF COMMERCE

National Oceanic and Atmospheric Administration

50 CFR Part 622

[I.D. 050500G]

Fisheries of the Caribbean, Gulf of Mexico, and South Atlantic; Shrimp Fishery of the Gulf of Mexico; Texas Closure

AGENCY: National Marine Fisheries Service (NMFS), National Oceanic and Atmospheric Administration (NOAA), Commerce.

ACTION: Adjustment of the beginning date of the Texas closure.

SUMMARY: NMFS announces an adjustment to the start of the annual closure of the shrimp fishery in the exclusive economic zone (EEZ) off Texas. The closure is normally from May 15 to July 15 each year. For 2000, the closure will begin on May 11. The Texas closure is intended to prohibit the harvest of brown shrimp during the major period of emigration from Texas estuaries to the Gulf of Mexico so the shrimp may reach a larger, more valuable size and to prevent the waste of brown shrimp that would be discarded in fishing operations because of their small size.

DATES: The EEZ off Texas is closed to trawl fishing, except for trawling for royal red shrimp beyond the 100-fathom (183 meter) depth contour, from 30 minutes after sunset, May 11, 2000, to 30 minutes after sunset, July 15, 2000, unless the latter date is changed through notification in the Federal Register.

FOR FURTHER INFORMATION CONTACT: Steve Branstetter, 813-570-5305.

SUPPLEMENTARY INFORMATION: The Gulf of Mexico shrimp fishery is managed under the Fishery Management Plan for the Shrimp Fishery of the Gulf of Mexico (FMP). The FMP was prepared by the Gulf of Mexico Fishery Management Council and is implemented by regulations at 50 CFR part 622 under the authority of the Magnuson-Stevens Fishery Conservation and Management Act. Implementing regulations at 50 CFR 622.34 describe the Texas closure and provide for adjustments to the beginning and ending dates by the Regional Administrator, Southeast Region, NMFS, under specified criteria.

The beginning and ending dates of the Texas closure are based on biological sampling by Texas Parks and Wildlife Department (TPWD). This sampling is used to project when brown shrimp in Texas bays and estuaries will reach a mean size of 90 mm, and begin strong emigrations out of the bays and estuaries during maximum duration ebb tides. Sampling during the spring of 2000 indicates that brown shrimp will be leaving the Texas estuaries earlier than normal. Thus, to provide adequate protection of small brown shrimp emigrating from the Texas estuaries, NMFS has determined that an adjustment to the closure date is necessary. During the closure, the EEZ off Texas is closed to all trawl fishing, except for vessels trawling for royal red shrimp beyond the 100-fathom (183-m) depth contour. State waters off Texas will also be closed commencing at 30 minutes after sunset on May 11, 2000.

The termination date of the Texas closure is based on continued sampling by TPWD to develop projections of when brown shrimp will reach a mean size of 112 mm, and when maximum duration ebb tides will occur. If there is a need to adjust the July 15 date for the termination of the closure, notification of the revised termination date will be published in the Federal Register.

Classification

This action is authorized by 50 CFR 622.26(b) and is exempt from review under Executive Order 12866.

Authority: 16 U.S.C. 1801 et seq.

Dated: May 8, 2000.
Bruce C. Morehead,
Acting Director, Office of Sustainable Fisheries, National Marine Fisheries Service.

[FR Doc. 00-12032 Filed 5-11-00; 8:45 am]

BILLING CODE 3510-22-F